DEPARTMENT OF TRANSPORTATION

Office of the Secretary

[Docket No. DOT-OST-2018-0079]

Agency Information Collection: Activity for OMB Review: Agency Request for Reinstatement of a Previously Approved Information Collection: 2105-0009, Advisory Committee Candidate Biographical Information Request Form

AGENCY: Office of the Secretary (OST), DOT.

ACTION: Notice and request for comments.

SUMMARY: In compliance with the Paperwork Reduction Act of 1995, the U.S. Department of Transportation invites the general public, industry and other governmental parties to comment on the information collection request (ICR) OMB No. 2105-0009 Committee Candidate Biographical Information Request Form. The information collection request previously approved by the Office of Management and Budget (OMB) expired on May 31, 2012. The collection is needed to facilitate background investigations of individuals seeking or currently appointed to a Department committee. A Federal Register Notice with a 60-day comment period soliciting comments on the following information collection was published June 11, 2018, and the comment period ended August 10, 2018.

DATES: Written comments should be submitted by October 1, 2018.

FOR FURTHER INFORMATION CONTACT: David Freeman, Program Analyst, Executive Secretariat, U.S. Department of Transportation, 1200 New Jersey Avenue SE, Washington, DC 20590-0001 or telephone: (202) 366-2918.

Refer to OMB Control No. 2105-0009.

ADDRESSES: Written comments should be submitted to the attention of the DOT/OST Desk Officer, Office of Information and Regulatory Affairs, Office of Management and Budget, Docket Library, Room 10102, 725 17th Street NW, Washington, DC 20503 or by email at OIRA_submission@omb.eop.gov with the associated OMB Control Number 2105-0009.

SUPPLEMENTARY INFORMATION:

Title: Committee Candidate Biographical Information Request.

OMB Control No.: 2105-0009.

Type of Review: Reinstatement with change of previously approved information collection.

Form No.: DOT F1120.1.

Abstract: The requested reintroduction of the approved control number expands the information collection request (ICR) OMB No. 2105-0009, “Advisory Committee Candidate Biographical Information Request,” to include all DOT committee candidates and will be used to gather information from individuals interested in appointment to a committee and individuals who have been recommended for a membership on a committee to ensure fair and balanced membership. DOT is also revising the name of the collection to “Committee Candidate Biographical Information Request” consistent with the scope of the collection.

Respondents: Individuals who have contacted DOT to indicate interest in appointment to a committee and individuals who have been recommended for membership on a committee. Only one collection is expected per individual.

Number of Respondents: 100 annually.

Frequency: One time.

Estimated Time per Response: 15 minutes.

Total Annual Burden: 25 hours.

Comments are invited on: (a) Whether the proposed collection of information is necessary for the proper performance of the functions of the Department, including whether the information will be have practical utility; (b) the accuracy of the Department's estimate of burden of the proposed information collection; (c) ways to enhance the quality, utility, and clarity of the information collection; and (d) ways to minimize the collection of information on the respondents, including the use of automated collection techniques or other forms of information technology without reducing the quality of the information collected. All comments will become a matter of public record.

Authority: The Paperwork Reduction Act of 1995; 44 U.S.C. Chapter 35, as mended; and 49 CFR 1:48.

Issued in Washington, DC.
David Freeman,
Program Analyst, DOT Executive Secretariat.

[FR Doc. 2018-18950 Filed 8-30-18; 8:45 am]

BILLING CODE 4910-9-X-P